MORRIS K. UDALL AND STEWART L. UDALL FOUNDATION

Sunshine Act Meetings

TIME AND DATE: 9:00 a.m. to 3:30 p.m., Thursday, April 24, 2014.

PLACE: The offices of the Morris K. Udall and Stewart L. Udall Foundation, 130 South Scott Avenue, Tucson, AZ 85701.

STATUS: This meeting of the Board of Trustees will be open to the public, unless it is necessary for the Board to consider items in executive session.

MATTERS TO BE CONSIDERED: (1) Appropriations Update; (2) Financial Update; (3) Consent Agenda Approval, including the Minutes of the November 12, 2013, Board of Trustees Meeting and Program Reports; (4) Resolution regarding Transfer of Funds to the Native Nations Institute for Leadership, Management, and Policy; (5) Internal Controls Update; (6) Board of Trustees Ethics Training; (7) Contracting Update; (8) U.S. Institute for Environmental Conflict Resolution Sustainability Plan Update; (9) Review of Foundation HR Policies; and (10) Internal Personnel Matters.

PORTIONS OPEN TO THE PUBLIC: All agenda items except as noted below.

PORTIONS CLOSED TO THE PUBLIC: Executive Session to Discuss Internal Personnel Matters.

CONTACT PERSON FOR MORE INFORMATION: Philip J. Lemanski, Executive Director, 130 South Scott Avenue, Tucson, AZ 85701, (520) 901-8500.

Dated: April 7, 2014.
Philip J. Lemanski,
Executive Director, Morris K. Udall and Stewart L. Udall Foundation, and Federal Register Liaison Officer.

[FR Doc. 2014-08239 Filed 4-11-14; 8:45 am]

BILLING CODE 6820-FN-M